DEPARTMENT OF THE INTERIOR

Bureau of Land Management

[LLNVW00000.L51100000.GN0000.LVEMF1805980.18X MO#4500131512]

Notice of Intent To Prepare an Environmental Impact Statement for the Proposed POA11 Project—Modification to the Plan of Operations for the Coeur Rochester and Packard Mines, Pershing County, Nevada

AGENCY: Bureau of Land Management, Interior.

ACTION: Notice of intent.

SUMMARY: In compliance with the National Environmental Policy Act of 1969, as amended (NEPA), and the Federal Land Policy and Management Act of 1976, as amended, the Bureau of Land Management (BLM) Humboldt River Field Office, Winnemucca, Nevada intends to prepare an Environmental Impact Statement (EIS) to analyze the potential impacts of approving an expansion to the existing Coeur Rochester and Packard silver mining operation in Pershing County, Nevada. This notice announces the beginning of the scoping process to solicit public comments and identify issues to be considered in the EIS, and serves to initiate public consultation, as required under the National Historic Preservation Act.

DATES: This notice initiates the public scoping process for the EIS. Comments on issues to be considered in the EIS may be submitted in writing until April 5, 2019. The dates and locations of two scoping meetings, one in Lovelock and the other in Winnemucca, Nevada, will be announced at least 15 days in advance through local media, newspapers and the BLM website at: https://www.blm.gov/office/winnemucca-district-office. In order to be included in the Draft EIS, all comments must be received prior to the close of the 30-day scoping period or 15 days after the last public meeting, whichever is later. We will provide additional opportunities for public participation upon publication of the Draft EIS.

ADDRESSES: You may submit comments related to the Coeur Rochester and Packard Mines POA11 Project by any of the following methods:

• Website: https://go.usa.gov/xPdjC.

• Email: wfoweb@blm.gov. Include “Coeur POA11 EIS Comments” in the subject line.

• Fax: (775) 623-1503.

• Mail: BLM Winnemucca District, Humboldt River Field Office, 5100 East Winnemucca Boulevard, Winnemucca, NV 89445.

Documents pertinent to this proposal may be examined at the Humboldt River Field Office.

FOR FURTHER INFORMATION CONTACT: Kathleen Rehberg, telephone 775-623-1500; address BLM Winnemucca District, Humboldt River Field Office, 5100 East Winnemucca Boulevard, Winnemucca, Nevada 89445; email krehberg@blm.gov. Contact Ms. Rehberg to have your name added to our mailing list. Persons who use a telecommunications device for the deaf (TDD) may call the Federal Relay Service (FRS) at 1-800-877-8339 to contact the above individual during normal business hours. The FRS is available 24 hours a day, 7 days a week, to leave a message or question with the above individual. You will receive a reply during normal business hours.

SUPPLEMENTARY INFORMATION: The applicant, Coeur Rochester Inc. has requested to modify its approved Plan of Operations at the Rochester and Packard mines to expand its mining operations. The mine is located approximately 26 miles northeast of Lovelock, Nevada. The mine is currently authorized to disturb up to 2203.1 acres (approximately 164.6 acres of private land and 2038.5 acres of public land), as permitted under a series of Environmental Impacts Statements and Environmental Assessments beginning with the initial Plan of Operations in 1986 through the latest EIS in 2015. Coeur Rochester Inc, is proposing to expand and optimize their current operations. Their proposed action would expand mining in both of their current pits (the Rochester and Packard pits) and move, relocate, or expand: Heap leach pads, waste rock dumps, haul roads, access road, water pipeline, and processing facilities. The proposal would increase disturbance by 2,815.4 acres (435.2 acres on private land and 2380.2 acres on public land).

Mining of the Rochester Pit would extend below groundwater and require dewatering, resulting in a permanent pit lake after closure. Additional potentially acid generating material would be excavated and would be processed as ore or stored according to their Waste Rock Storage Plan. The plan would also necessitate an upgrade in power distribution lines and a substation. With the proposed expansion, mine life would be extended to 2033, and would be followed by mine closure and reclamation.

The purpose of the public scoping process is to determine relevant issues that will influence the scope of the environmental analysis, including alternatives, and guide the process for developing the EIS. At present, the BLM has identified the following preliminary issues: (a) Dewatering during mining and the formation of a pit lake after completion of mining activities; (b) Production of acid forming rock and to waters of the state and public lands; (c) Potential impacts to visual resources; (d) Potential impacts to wildlife habitat; and (e) Potential impacts to the Rochester Historic Mining district.

The BLM will use the procedures for public involvement under the NEPA process to also satisfy the public involvement requirements under the National Historic Preservation Act (54 U.S.C. 306108) as provided in 36 CFR 800.2(d)(3). The information about historic and cultural resources within the area potentially affected by the proposed action will assist the BLM in identifying and evaluating impacts to such resources in the context of both NEPA and the National Historic Preservation Act.

The BLM will consult with Indian tribes on a government-to-government basis in accordance with Executive Order 13175, Secretarial Order 3317, and other policies. Tribal concerns, including but not limited to impacts on Indian trust assets and potential impacts to cultural resources, will be given due consideration. Federal, State, and local agencies, along with tribes and other stakeholders that may be interested in or affected by the proposed Coeur Rochester and Packard Mines Plan of Operations—POA11 Project are invited to participate in the scoping process and, if eligible, may request or be asked by the BLM to participate in the development of the environmental analysis as a cooperating agency.

Before including your address, phone number, email address, or other personal identifying information in your comment, you should be aware that your entire comment—including your personal identifying information—may be made publicly available at any time. While you can ask us in your comment to withhold your personal identifying information from public review, we cannot guarantee that we will be able to do so.

Authority: 40 CFR 1501.7

David Kampwerth,
Field Manager, Humboldt River Field Office.

[FR Doc. 2019-04058 Filed 3-5-19; 8:45 am]

BILLING CODE 4310-HC-P